DEPARTMENT OF TRANSPORTATION

Coast Guard

33 CFR Parts 161 and 167

[USCG-2001-10254]

RIN 2115-AG20

Traffic Separation Scheme: In Prince William Sound, AK

AGENCY: Coast Guard, DOT.

ACTION: Notice of proposed rulemaking.

SUMMARY: The Coast Guard proposes amending the existing Traffic Separation Scheme (TSS) in Prince William Sound, Alaska. The proposed amendments are adopted by the International Maritime Organization and have been validated by a recent Port Access Route Study (PARS). Implementing these amendments would provide straight traffic lanes between the Bligh Reef Pilot Station and Cape Hinchinbrook and should reduce risk for vessels operating in the area. The rulemaking would incorporate the amended TSS into the Code of Federal Regulations.

DATES: Comments and related materials must reach the Docket Management Facility on or before March 8, 2002.

ADDRESSES: To make sure your comments and related material are not entered more than once in the docket, please submit them by only one of the following means:

(1) By mail to the Docket Management Facility, (USCG-2001-10254), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public, as well as documents indicated in this preamble as being available in this docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this proposed rule, call LT Keith Ropella, U.S. Coast Guard Marine Safety Office, Valdez, AK, telephone 907-835-7209, e-mail KRopella@cgalaska.uscg.mil; or George Detweiler, Coast Guard, Office of Vessel Traffic Management (G-MWV), at 202-267-0574, e-mail GDetweiler@comdt.uscg.mil. If you have questions on viewing or submitting material to the docket, call Dorothy Beard, Chief, Dockets, Department of Transportation, telephone 202-366-9329.

SUPPLEMENTARY INFORMATION:

Request for Comments

We encourage you to participate in this rulemaking by submitting comments and related material. If you do so, please include your name and address, identify the docket number for this rulemaking (USCG-2001-10254), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this proposed rule in view of them.

Public Meeting

We do not now plan to hold a public meeting. But you may request one by submitting a request to the Docket Management Facility at the address under ADDRESSES explaining why one would be beneficial. If we determine that one would aid this rulemaking, we will hold one at a time and place announced by a later notice in the Federal Register.

Background and Purpose

Under the Ports and Waterways Safety Act (33 U.S.C. 1221-1232) (PWSA), the Coast Guard establishes Traffic Separation Schemes (TSS's), where necessary, to provide safe access routes for vessels proceeding to or from U.S. ports. Before implementing new TSS's or modifying existing ones, we conduct a port access route study (PARS). Through the PARS process, we consulted with affected parties to reconcile the need for safe access routes with the need to accommodate other reasonable uses of the waterway, such as oil and gas exploration, deepwater port construction, establishment of marine sanctuaries, and recreational and commercial fishing. If a study recommends a new or modified TSS, we must initiate a rulemaking to implement the TSS. Once a TSS is established, the right of navigation is considered paramount within the TSS.

Maritime trends have not significantly changed since the publication of a description of the Prince William Sound Oil Transportation System in 1996. However, minor changes have occurred since publication. These changes include the replacement of several new escort vessels in the ALYESKA/SERVS fleet and the removal of several tankers from service. In addition, ALYESKA began operation of a Vapor Control Recovery Loading System in March, 1998. This system is functional on berths 4 and 5 of the Trans-Alaska Pipeline Terminal. Originally, it was thought that vessel traffic congestion would result due to the shippers' preference to utilize these berths. However, most delays seem minimal and Knowles Head Anchorage remains adequate for vessels awaiting a berth.

Cruise ships continue to visit Valdez during May through September. Cruise ship traffic continues to grow in direct proportion to the increase in tourism throughout Alaska. These vessels frequently do not follow the traffic lanes within central Prince William Sound. Typically, cruise ships transit through Montague Strait up the west side of Prince William Sound to College Fiord. Those vessels that make a port call in Valdez join the existing traffic lane in the Valdez Arm.

Fishing vessels, most notably seiners, continue to harvest salmon during the summer. The Vessel Traffic Center at Valdez has gone to great efforts to educate all mariners about ways to share the waterway. Radio procedures have been established to further disseminate information to fishing vessels participating in the limited periods when fishing is allowed. Although Valdez Narrows still poses the greatest possibility of conflicts with fishing vessel and commercial vessel traffic, the prevailing attitude is one of cooperation among parties.

Recreational boating continues to abound within Prince William Sound. Areas of operation for these vessels are not predictable and generally follow current fishing trends. Charter vessels fish for halibut in the vicinity of Cape Hinchinbrook, and salmon fishing occurs within the port. Kayakers also make frequent excursions to nearby glaciers and recreational sites, however their transits typically follow close to the shoreline.

Existing Prince William Sound TSS. The current TSS in Prince William Sound, Alaska, runs from the vicinity of Cape Hinchinbrook through Prince William Sound and into the Valdez Arm (the entrance to Port Valdez). The International Maritime Organization (IMO) adopted the TSS in 1992. The TSS is reflected on National Oceanic and Atmospheric Administration (NOAA) nautical chart 16700 and in “Ships Routeing,” Seventh Edition 1999, International Maritime Organization.

Recent Port Access Route Study. We published a notice of study in the Federal Register on February 9, 1998 (63 FR 6502). This study was to review and evaluate the need for modifications to current vessel routing and traffic management measures in the approaches or departures within Prince William Sound, Alaska. The study considered the results and findings of several related studies. We published the study results in the Federal Register on August 26, 1999 (64 FR 4662). The PARS concluded that modifications to the current TSS were necessary to improve vessel traffic management and safety and reduce the risk of drift groundings.

Discussion of Proposed Rule

This rulemaking would amend the existing TSS in Prince William Sound, Alaska. The existing TSS is delineated in “Ships Routeing,” Seventh Edition 1999, International Maritime Organization, but not yet codified in the Code of Federal Regulations (CFR). The amendments are based on the recommendations of the 1999 PARS. We propose the following changes to the existing TSS:

• Establish a precautionary area southeast of Cape Hinchinbrook at the entrance to Prince William Sound.

• Straighten the Prince William Sound portion of the TSS to eliminate a course change.

• Establish a precautionary area at the Bligh Reef Pilot Station.

This precautionary area will divide the present TSS into two separate traffic separation schemes—a Prince William Sound traffic separation scheme and a Valdez Arm traffic separation scheme. In addition, the new Valdez Arm TSS will be slightly wider than the Valdez Arm portion of the present TSS.

Establish a precautionary area southeast of Cape Hinchinbrook at the entrance to Prince William Sound. Establishing a precautionary area southeast of Cape Hinchinbrook should reduce the potential for traffic congestion in this area. Some laden tankers departing from Cape Hinchinbrook do not follow the existing Prince William Sound Safety Fairway. Instead, the vessels use an alternate route to provide an extra measure of protection for the environmentally sensitive Copper River Flats Delta area. The recommended precautionary area would provide two distinct routes for departing and returning vessels, thereby improving vessel traffic management and safety.

Straighten the Prince William Sound portion of the TSS to eliminate a course change. The present course change in the Prince William Sound TSS was created to move traffic away from the Alaskan king crab fishing area (200 fathom curve). Since king crab is no longer fished in this area, the course change is not required. Eliminating the course change provides a straight traffic lane between the Bligh Reef Pilot Station and Cape Hinchinbrook and should reduce risk for vessels operating in the area. The length of transit in Prince William Sound is reduced, as well as overall exposure time for vessels. It should also result in a smoother flow of traffic and less traffic congestion. Further, with the course change removed, the minimum distance from the center of the southbound traffic lane to Naked Island would increase from 6 to 9 nautical miles, reducing the risk of drift groundings.

Establish a precautionary area at the Bligh Reef Pilot Station. Establishing a precautionary area at the Bligh Reef Pilot Station should reduce risk for vessels operating in the area. Several types of vessels converge in this area, including ferries, cruise ships, and tankers. Navigation can sometimes be difficult in this area because of outflows of ice from the Columbia Glacier. In addition, since the area offers little protection from the weather, vessels occasionally alter course to provide safe embarking and disembarking for pilots. The southbound traffic lane of the TSS within Valdez Arm would be widened to be tangent with the perimeter of the precautionary area.

We would amend the Valdez Narrows Vessel Traffic Service (VTS) Special Area to include the Valdez Arm portion of the TSS. This would give the Commanding Officer of the VTS the authority to direct vessels into the separation zone if, for example, the traffic lanes become partially blocked by ice from the Columbia Glacier.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979). We expect the economic impact of this proposed rule to be so minimal that a full Regulatory Evaluation under paragraph 10e of the regulatory policies and procedures of DOT is unnecessary. The costs and benefits of this proposed rulemaking are summarized below.

Costs

Vessel operators would incur the minimal cost of plotting new coordinates on their existing charts or purchasing updated charts when available.

Benefits

The proposed amendments to the TSS in Prince William Sound, Alaska, would increase the margin of safety for all vessels accessing the Port of Valdez. The new Precautionary Areas and amended traffic lanes would decrease the chance of collisions, allisions, and drift groundings were a vessel to become disabled. We expect that vessels transiting the Prince William Sound TSS would experience cost savings, through decreased operational costs, because the transit lanes in the Sound would be shorter.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

This proposed rule should have a reduced economic impact on vessels operated by small entities. The proposal amends an existing TSS. This action improves safety for commercial vessels using the TSS by reducing the risk of collisions, allisions, and drift groundings. Vessels voluntarily transiting the TSS will have to transit 1.5 to 2.5 nautical miles fewer per trip. The reduced transit distance results in decreased vessel operating costs. Vessels that tend to use the TSS's are commercial vessels, such as tankers. These vessels are usually large and capable of operating in an offshore environment. Because of their size, most of them are not owned by small entities. Even if such a large vessel were owned by a small business, decreased transit costs would positively affect the overall cost of the complete voyage.

Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult George Detweiler, Coast Guard, Marine Transportation Specialist, at 202-267-0574.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

We have analyzed this proposed rule under E.O. 13132 and have determined that it does not have implications for federalism under that Order.

Title I of the Ports and Waterways Safety Act (33 U.S.C. 1221 et seq.) (PWSA) authorizes the Secretary to promulgate regulations to designate and amend traffic separation schemes (TSS's) to protect the marine environment. In enacting PWSA in 1972, Congress found that advance planning and consultation with the affected States and other stakeholders was necessary in the development and implementation of a TSS. Throughout the history of the development of the TSS in Prince William Sound, Alaska, we have consulted with the Valdez Marine Operators Committee (VMOC), the affected state and Federal pilot's associations, vessel operators, users, and all affected stakeholders. The VMOC includes individuals who represent the interests of local commercial shipping and industry, as well as members from the Regional Citizens Advisory Council, and the State of Alaska. The VMOC was an active participant in various meetings with the Coast Guard and has contributed to this rulemaking.

Presently, there are no Alaska State laws or regulations concerning the same subjects as are contained in this proposed rule. We understand the state does not contemplate issuing any such rules. However, it should be noted, that by virtue of the PWSA authority, the TSS proposed in this rule would preempt any state rule on the same subject.

In order to be effective against foreign flag vessels on the high seas, TSS's must be submitted to, approved by, and implemented by IMO. Individual states are not represented at IMO; that is the role of the Federal government. The Coast Guard is the principal United States agency responsible for advancing the interests of the United States at IMO. We recognize, however, the interest of all local stakeholders as we work at IMO to advance the goals of this TSS. We will continue to work closely with stakeholders to implement the final rule to ensure that the waters in Prince William Sound affected by this proposed rule are made safer and more environmentally secure.

Unfunded Mandates Reform Act

The Unfunded Mandates Reform Act of 1995 (2 U.S.C. 1531-1538) requires Federal agencies to assess the effects of their regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded that, under figure 2-1, paragraph (34)(i), of Commandant Instruction M16475.lD, this rule is categorically excluded from further environmental documentation. This rule proposes adjusting an existing traffic separation scheme. A “Categorical Exclusion Determination” is available in the docket where indicated under ADDRESSES.

List of Subjects

33 CFR Part 161

Harbors, Navigation (water), Reporting and recordkeeping requirements, Vessels, and Waterways.

33 CFR Part 167

Harbors, Marine safety, Navigation (water), and Waterways.

For the reasons discussed in the preamble, the Coast Guard proposes to amend 33 CFR parts 161 and 167 as follows:

PART 161—VESSEL TRAFFIC MANAGEMENT

1. The authority citation for part 161 continues to read as follows:

Authority: 33 U.S.C. 1221; 33 U.S.C. 1223; 49 CFR 1.46.

2. Revise § 161.60 (b) to read as follows:

§ 161.60 Vessel Traffic Service Prince William Sound.

* * * * *

(b) The Valdez Narrows VTS Special Area consists of those waters of the Valdez Arm Traffic Separation Scheme as defined in 33 CFR part 167; those waters of Valdez Arm and Valdez Narrows bounded by the points 61°02.10′ N, 146°40.00′ W; 60°58.04′ N, 146°46.52′ W; 60°58.93′ N, 146°48.86′ W; 61°03.40′ N, 146°41.80′ W; and those waters of Port Valdez southwest of a line bearing 307° True from Entrance Island Light at 61°05.10′ N, 146°36.70′ W, through Valdez Narrows to a line between the points 61°02.10′ N, 146°40.00′ W and 61°03.40′ N, 146°41.80′ W.

* * * * *

PART 167—OFFSHORE TRAFFIC SEPARATION SCHEMES

3. The authority citation for part 167 continues to read as follows:

Authority: 33 U.S.C. 1223; 49 CFR 1.46.

4. Add §§ 167.1700 through 167.1703 to read as follows:

§ 167.1700 In Prince William Sound: General.

The Prince William Sound Traffic Separation Scheme consists of four parts: Prince William Sound Traffic Separation Scheme, Valdez Arm Traffic Separation Scheme, and two Precautionary Areas. The specific parts are described in §§ 167.1701 through 167.1703. The geographic coordinates in §§ 167.1701 through 167.1703 are defined using North American Datum 1983 (NAD 83).

§ 167.1701 In Prince William Sound: Precautionary Areas.

(a) Cape Hinchinbrook: A precautionary area is established, bounded by a line connecting the following geographical positions:

Latitude | Longitude
60°20.59′ N | 146°48.18′ W
60°12.67′ N | 146°40.43′ W
60°11.01′ N | 146°28.65′ W
60°05.47′ N | 146°00.01′ W
60°00.81′ N | 146°03.53′ W
60°05.44′ N | 146°27.58′ W
59°51.80′ N | 146°37.51′ W
59°53.52′ N | 146°46.84′ W
60°07.76′ N | 146°36.24′ W
60°11.51′ N | 146°46.64′ W
60°20.60′ N | 146°54.31′ W

(b) Bligh Reef: A precautionary area of radius 1.5 miles is centered upon geographical position 60°49.63′ N, 147°01.33′ W.

(c) A pilot boarding area is located near the center of the Bligh Reef precautionary area. Specific regulations pertaining to vessels operating in these areas are contained in 33 CFR 165.1109(d).

§ 167.1702 In Prince William Sound: Prince William Sound Traffic Separation Scheme.

(a) A separation zone is bounded by a line connecting the following geographic positions:

Latitude | Longitude
60°20.77′ N | 146°52.31′ W
60°48.12′ N | 147°01.78′ W
60°48.29′ N | 146°59.77′ W
60°20.93′ N | 146°50.32′ W

(b) A traffic lane for northbound traffic is established between the separation zone and a line connecting the following geographic positions:

Latitude | Longitude
60°20.59′ N | 146°48.18′ W
60°49.49′ N | 146°58.19′ W

(c) A traffic lane for southbound traffic is established between the separation zone and a line connecting the following geographic positions:

Latitude | Longitude
60°49.10′ N | 147°04.19′ W
60°20.60′ N | 146°54.31′ W

§ 167.1703 In Prince William Sound: Valdez Arm Traffic Separation Scheme.

(a) A separation zone is bounded by a line connecting the following geographic positions:

Latitude | Longitude
60°51.08′ N | 147°00.33′ W
60°58.60′ N | 146°48.10′ W
60°58.30′ N | 146°47.10′ W
60°50.45′ N | 146°58.75′ W

(b) A traffic lane for northbound traffic is established between the separation zone and a line connecting the following geographic positions:

Latitude | Longitude
60°49.39′ N | 146°58.19′ W
60°58.04′ N | 146°46.52′ W

(c) A traffic lane for southbound traffic is established between the separation zone and a line connecting the following geographic positions:

Latitude | Longitude
60°58.93′ N | 146°48.86′ W
60°50.61′ N | 147°03.60′ W

Dated: December 5, 2001.
Joseph J. Angelo,
Director of Standards, Marine Safety and Environmental Protection.

[FR Doc. 02-2756 Filed 2-5-02; 8:45 am]

BILLING CODE 4910-15-P